DEPARTMENT OF TRANSPORTATION

Federal Aviation Administration

14 CFR Part 73

[Docket No. FAA-2015-3338; Airspace Docket No. 15-ASO-7]

Proposed Modification and Establishment of Restricted Areas; Townsend, GA

AGENCY: Federal Aviation Administration (FAA), DOT.

ACTION: Notice of proposed rulemaking (NPRM).

SUMMARY: This notice proposes to modify the restricted airspace at the Townsend Bombing Range, GA, by expanding the lateral limits of R-3007A to allow construction of additional targets and impact areas. The modification is needed so that precision guided munitions (PGM) can be used on the range. The proposed change would be completely contained within the existing outer boundaries of the R-3007 complex. The using agency name also is updated.

DATES: Comments must be received on or before November 23, 2015.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2015-3338 and Airspace Docket No. 15-ASO-7, at the beginning of your comments. You may also submit comments through the Internet at http://www.regulations.gov. Comments on environmental and land use aspects to should be directed to: Mr. William Drawdy, Natural Resources and Environmental Affairs Officer, Building 601, Floor 2, Room 216, Beaufort, SC 29904; telephone: 843-228-7370; email: william.drawdy@usmc.mil.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitile VII, Part A, Subpart I, Section 40103. Under that section, the FAA is charged with prescribing regulations to assign the use of the airspace necessary to ensure the safety of aircraft and the efficient use of airspace. This regulation is within the scope of that authority as it would modify restricted airspace at the Townsend Bombing Range, GA, to permit essential aircrew training in the employment of PGM at the Range.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2015-3338 and Airspace Docket No. 15-ASO-7) and be submitted in triplicate to the Docket Management System (see ADDRESSES section for address and phone number). You may also submit comments through the Internet at http://www.regulations.gov.

Persons wishing the FAA to acknowledge receipt of their comments on this action must submit with those comments a self-addressed, stamped postcard on which the following statement is made: “Comments to FAA Docket No. FAA-2015-3338 and Airspace Docket No. 15-ASO-7.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Eastern Service Center, Federal Aviation Administration, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The Townsend Bombing Range, located in Long and McIntosh Counties, GA, has been used for air-to-ground ordnance delivery dating back to the 1940's. Currently, the Range consists of four restricted areas: R-3007A, B, C and D. The Range is owned by Marine Corps Air Station (MCAS) Beaufort, SC, and is operated by the Georgia Air National Guard's Combat Readiness Training Center in Savannah, GA.

Although the Range impact area (i.e., R-3007A) has been large enough to accommodate fighter aircraft dropping unguided munitions, it is too small to contain the larger weapon danger zone required for PGMs. The weapon danger zone is the area within which a weapon could impact the ground if a malfunction occurred. Although very accurate, PGMs actually require larger impact areas because they are released to their target from greater distances and altitudes than other types of ordnance. If a PGM experienced guidance or a mechanical system malfunction, its potential impact area is much larger than that required for ordnance that is released from lower altitudes and closer to the target. Consequently, the Range cannot currently be used to train aircrews to employ PGMs. To permit PGM training, the impact area must be expanded to ensure that any errant bomb would safely land within the Range impact area.

The U.S. Marine Corps is acquiring 28,630 acres of real estate to make the Range viable for this essential aircrew training. Purchase of that land would allow a larger section of the existing restricted airspace to be lowered from the current 100 feet above ground level (AGL) floor, down to ground level to permit construction of the additional targets and expanded impact area needed for PGMs.

Range Configuration

Restricted area R-3007A is the primary weapons impact area. It is a circular area with a 1.5-nautical mile (NM) radius that extends from the ground up to but not including 13,000 feet mean sea level (MSL). R-3007B is a narrow area to the southeast of R-3007A. It extends from 1,200 feet AGL up to but not including 13,000 feet MSL. R-3007C is the largest part of the complex. It surrounds R-3007A and is bounded on the west by the Altamaha River, and by lines roughly 9 NM north of R-3007A and 7 NM northeast of R-3007A, and by R-3007B to the southeast of R-3007A. R-3007C extends from 100 feet AGL up to but not including 13,000 feet MSL. R-3007D overlies subareas A, B and C and extends from 13,000 feet MSL to Flight Level (FL) 250.

The land acquisition parcel underlies roughly the eastern half of R-3007C. The airspace over this parcel would be incorporated into R-3007A thereby allowing the floor of the airspace in that area to be lowered from 100 feet AGL down to ground level. This proposed expansion of R-3007A would leave a small, isolated piece of restricted airspace (along the boundary of R-3007B and formerly a part of R-3007C) with a floor of 100 feet AGL. This small area would be redesignated as R-3007E and would extend from 100 feet AGL up to but not including 13,000 feet MSL.

The Proposal

The FAA is proposing an amendment to 14 CFR part 73 to expand restricted area R-3007A to include the part of R-3007C that overlies a land parcel being acquired by the U.S. Marine Corps. The floor of R-3007C is 100 feet AGL. By adding the airspace over this land parcel into R-3007A, the restricted area floor in that area could be lowered from 100 feet AGL down to ground level. This change is proposed to provide additional ground level restricted airspace needed for the construction of targets and impact areas so that PGMs can safely be employed at the Range. The small slice of restricted airspace with a 100-foot AGL floor that remains to the east of the expanded R-3007A would be redesignated as R-3007E extending from 100 feet AGL up to but not including 13,000 feet MSL.

Minor corrections would be made to several boundary coordinates for R-3007B and R-3007D to match the current National Hydrology Dataset for the Altamaha River boundary where that river forms the boundary of the restricted areas. The name of the using agency for all subareas would be updated to reflect the current organizational title.

A color chart of the proposed areas will be posted on the www.regulations.gov Web site.

Regulatory Notices and Analyses

The FAA has determined that this proposed regulation only involves an established body of technical regulations for which frequent and routine amendments are necessary to keep them operationally current. It therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1E, “Environmental Impacts: Policies and Procedures,” prior to any FAA final regulatory action.

List of Subjects in 14 CFR Part 73

Airspace, Prohibited Areas, Restricted Areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.30 (Amended)

2. § 73.30 is amended as follows:

* * * * *

R-3007A Townsend, GA [Amended]

By removing the current boundaries and using agency and inserting the following:

Boundaries. Beginning at lat. 31°41′52″ N., long. 81°35′53″ W.; to lat. 31°42′31″ N., long. 81°33′59″ W.; to lat. 31°39′24″ N., long. 81°30′31″ W.; to lat. 31°37′49″ N., long. 81°30′56″ W.; to lat. 31°36′35″ N., long. 81°31′15″ W.; to lat. 31°34′17″ N., long. 81°31′56″ W.; to lat. 31°33′07″ N., long. 81°32′41″ W.; thence counterclockwise along a 1-NM radius arc from a point centered at lat. 31°32′26″ N., long. 81°31′49″ W.; to lat. 31°32′37″ N., long. 81°32′58″ W.; to lat. 31°30′59″ N., long. 81°33′57″ W.; to lat. 31°30′45″ N., long. 81°34′19″ W.; to lat. 31°30′29″ N., long. 81°34′41″ W,; to lat. 31°30′38″ N., long. 81°35′06″ W.; to lat. 31°31′13″ N., long. 81°35′02″ W.; to lat. 31°31′35″ N., long. 91°36′32″ W.; to lat. 31°33′04″ N., long. 81°37′27″ W.; to lat. 31°33′30″ N., long. 81°36′32″ W.; to lat. 31°34′25″ N., long. 81°36′13″ W.; to lat. 31°35′32″ N., long. 81°35′59″ W,; to lat. 31°35′55″ N., long. 81°35′19″ W.; to lat. 31°36′38″ N., long. 81°35′18″ W.; to lat. 31°36′43″ N., long. 81°35′41″ W.; to lat. 31°37′20″ N., long. 81°35′37″ W.; to lat. 31°37′23″ N., long. 81°35′47″ W.; to lat. 31°40′29″ N., long. 81°36′13″ W.; to lat. 31°40′48″ N., long. 81°35′33″ W.; to the point of beginning.

Using agency. ANG, Savannah Combat Readiness Training Center (CRTC), Office of Townsend Bombing Range, GA.

R-3007B Townsend, GA [Amended]

By removing the current boundaries and using agency and inserting the following:

Boundaries. Beginning at lat. 31°38′01″ N., long. 81°28′59″ W.; to lat. 31°37′31″ N., long. 81°28′14″ W.; to lat. 31°32′31″ N., long. 81°27′29″ W.; to lat. 31°26′16″ N., long. 81°31′29″ W.; to lat. 31°25′26″ N., long. 81°36′05″ W.; to lat. 31°27′26″ N., long. 81°33′39″ W.; to lat. 31°31′26″ N., long. 81°31′58″ W.; thence clockwise along a 1-NM radius arc from a point centered at lat. 31°32′26″ N., long. 81°31′49″ W.; to lat. 31°33′18″ N., long. 81°31′13″ W.; to the point of beginning.

Using agency. ANG, Savannah Combat Readiness Training Center (CRTC), Office of Townsend Bombing Range, GA.

R-3007C Townsend, GA [Amended]

By removing the current boundaries and using agency and inserting the following:

Boundaries. Beginning at lat. 31°37′54″ N., long. 81°47′21″ W.; to lat. 31°41′52″ N., long. 81°35′53″ W.; to lat. 31°40′48″ N., long. 81°35′33″ W,; to lat. 31°40′29″ N., long. 81°36′13″ W.; to lat. 31°37′23″ N., long. 81°35′47″ W.; to lat. 31°37′20″ N., long. 81°35′37″ W.; to lat. 31°36′43″ N., long. 81°35′41″ W.; to lat. 31°36′38″ N., long. 81°35′18″ W.; to lat. 31°35′55″ N., long. 81°35′19″ W.; to lat. 31°35′32″ N., long. 81°35′59″ W.; to lat. 31°34′25″ N., long. 81°36′13″ W.; to lat. 31°33′30″ N., long. 81°36′32″ W.; to lat. 31°33′04″ N., long. 81°37′27″ W.; to lat. 31°31′35″ N., long. 81°36′32″ W.; to lat. 31°31′13″ N., long. 81°35′02″ W.; to lat. 31°30′38″ N., long. 81°35′06″ W.; to lat. 31°30′29″ N., long. 81°34′41″ W.; to lat. 31°30′45″ N., long. 81°34′19″ W.; to lat. 31°30′59″ N., long. 81°33′57″ W.; to lat. 31°32′37″ N., long. 81°32′58″ W.; thence counterclockwise along a 1-NM radius arc from a point centered at lat. 31°32′26″ N., long. 81°31′49″ W.; to lat. 31°31′26″ N., long. 81°31′58″ W.; to lat. 31°27′26″ N., long. 81°33′39″ W.; to lat. 31°25′26″ N., long. 81°36′05″ W.; thence west along the Altamaha River to the point of beginning.

Using agency. ANG, Savannah Combat Readiness Training Center (CRTC), Office of Townsend Bombing Range, GA.

R-3007D Townsend, GA [Amended]

By removing the current boundaries and using agency and inserting the following:

Boundaries. Beginning at lat. 31°37′54″ N., long. 81°47′21″ W.; to lat. 31°41′52″ N., long. 81°35′53″ W.; to lat. 31°42′31″ N., long. 81°33′59″ W.; to lat. 31°39′24″ N., long. 81°30′31″ W.; to lat. 31°38′01″ N., long. 81°28′59″ W.; to lat. 31°37′31″ N., long. 81°28′14″ W.; to lat. 31°32′31″ N., long. 81°27′29″ W.; to lat. 31°26′16″ N., long. 81°31′29″ W.; to lat. 31°25′26″ N., long. 81°36′05″ W.; thence northwest along the Altamaha River to the point of beginning.

Using agency. ANG, Savannah Combat Readiness Training Center (CRTC), Office of Townsend Bombing Range, GA.

R-3007E Townsend, GA [New]

Boundaries. Beginning at lat. 31°39′24″ N., long. 81°30′31′W.; to lat. 31°38′01″ N., long. 81°28′59″ W.; to lat. 31°33′18″ N., long. 81°31′13″ W.; thence counterclockwise along a 1-NM radius arc from a point centered at lat. 31°32′26″ N., long. 81°31′49″ W.; to lat. 31°33′07″ N., long. 81°32′41″ W.; to lat. 31°34′17″ N., long. 81°31′56″ W.; to lat. 31°36′35″ N., long. 81°31′15″ W.; to lat. 31°37′49″ N.; long. 81°30′56″ W.; to the point of beginning.

Designated altitudes. 100 feet AGL to but not including 13,000 feet MSL.

Time of designation. 0700-2200 local time, Monday-Friday; other times by NOTAM at least 24 hours in advance.

Controlling agency. FAA, Jacksonville ARTCC.

Using agency. ANG, Savannah Combat Readiness Training Center (CRTC), Office of Townsend Bombing Range, GA.

Issued in Washington, DC, on October 1, 2015.
Kenneth Ready,
Acting Manager, Airspace Policy Group.

[FR Doc. 2015-25542 Filed 10-6-15; 8:45 am]

BILLING CODE 4910-13-P